GENERAL SERVICES ADMINISTRATION

[Notice-MG-2022-04; Docket No. 2022-0002; Sequence No. 25]

Office of Federal High-Performance Buildings; Green Building Advisory Committee; Notification of Upcoming Web-Based Public Meetings

AGENCY: Office of Government-wide Policy, General Services Administration (GSA).

ACTION: Meeting notice.

SUMMARY: In accordance with the requirements of the Federal Advisory Committee Act, this notice provides the agenda for the Wednesday, November 9, 2022 Web-based meeting of the Green Building Advisory Committee (the Committee) and the next series of Web-based meetings of the Committee's Federal Building Decarbonization Task Group (the Task Group). All meetings are open for the public to observe. Interested individuals must register to attend as instructed below.

DATES: The Committee's Web-based meeting will be held on Wednesday, November 9, 2022, from 11:00 a.m. to 4:30 p.m. Eastern time (ET). The Task Group will hold its next series of Web-based meetings on Mondays from December 5, 2022, through September 25, 2023, from 3:00 p.m. to 4:00 p.m., Eastern Time (ET).

FOR FURTHER INFORMATION CONTACT: Dr. Ken Sandler, Designated Federal Officer, Office of Federal High-Performance Buildings, Office of Government-wide Policy, GSA, 1800 F Street NW, (Mail-code: MG), Washington, DC 20405, at ken.sandler@gsa.gov or 202-219-1121. Additional information about the Committee, including meeting materials and agendas, will be available on-line at http://www.gsa.gov/gbac.

SUPPLEMENTARY INFORMATION:

Procedures for Attendance and Public Comment

Contact Dr. Ken Sandler at ken.sandler@gsa.gov or 202-219-1121 to register to attend the Committee meeting and/or the recurring Task Group meetings. To attend, submit your full name, organization, email address, and phone number, and which meetings you would like to observe. Requests to attend the Committee meeting must be received by 5:00 p.m. ET, on Monday, October 31, 2022. Requests to attend the full series of Task Group meetings must be received by 5:00 p.m. ET, on Wednesday, November 30, 2022. After that time, requests to attend ongoing Task Group meetings must be received by 5:00 p.m. ET on the Monday before the meeting in question. Since Task Group meetings are conducted as a series, it will generally be most useful to attend them in order (GSA will be unable to provide technical assistance to any listener experiencing technical difficulties. Testing access to the Web meeting site before the calls is recommended.)

Contact Dr. Sandler to register to comment during the Committee meeting public comment period. Registered speakers/organizations will be allowed a maximum of five minutes each and will need to provide written copies of their presentations. Requests to comment at the Committee meeting must be received by 5:00 p.m., ET, on Monday, October 31, 2022. Time will also be provided at Task Group meetings for public comment. To request an accommodation, such as closed captioning, or to ask about accessibility, please contact Dr. Sandler at least 10 business days prior to the meeting to give GSA as much time as possible to process the request.

Background

The Administrator of GSA established the Committee on June 20, 2011 (Federal Register/Vol. 76, No. 118) pursuant to Section 494 of the Energy Independence and Security Act of 2007 (EISA, 42 U.S.C. 17123). Under this authority, the Committee provides independent policy advice and recommendations to GSA to advance federal building innovations in planning, design, and operations to reduce costs, enable agency missions, enhance human health and performance, and minimize environmental impacts.

November 9, 2022 Meeting Agenda

• Introductions

• Discussion of new laws and executive orders

• Advisory vote for Committee Chair

• Federal Building Decarbonization task group findings & recommendations

• Public comment

• New committee directions & topics to explore

• Next steps and closing comments

The next phase of the Federal Building Decarbonization Task Group will build on the findings of the first two phases of this Task Group with a deeper investigation of issues related to beneficial federal building electrification.

The purpose of these Web-based meetings is for the Task Group to develop consensus recommendations for submission to the full Committee. The Committee will, in turn, deliberate on the Task Group recommendations and decide whether to proceed with formal advice to GSA based upon them.

Lois D. Mandell,
Director, Regulatory Secretariat Division, Office of Government-wide Policy, General Services Administration.

[FR Doc. 2022-21964 Filed 10-7-22; 8:45 am]

BILLING CODE 6820-14-P